SECURITIES AND EXCHANGE COMMISSION

Sunshine Act Meeting

Notice is hereby given, pursuant to the provisions of the Government in the Sunshine Act, Pub. L. 94-409, that the Joint CFTC-SEC Advisory Committee on Emerging Regulatory Issues (see also Pub. L. 111-117, section 621) will hold an Open Meeting on Tuesday, June 22, 2010, in the Auditorium, L-002.

The meeting will begin at 1 p.m. and will be open to the public, with seating on a first-come, first-served basis. Doors will open at 12:30 p.m. Visitors will be subject to security checks. This Sunshine Act notice is being issued because a majority of the Commission may attend the meeting.

The agenda for the meeting includes: (i) Committee organizational matters; (ii) testimony by representatives from various exchanges and firms regarding the market events of May 6; (iii) updates from staff; and (iv) discussion of next steps for the Committee.

For further information, please contact the Office of the Secretary at (202) 551-5400.

Dated: June 14, 2010.
Florence E. Harmon,
Deputy Secretary.

[FR Doc. 2010-14722 Filed 6-15-10; 11:15 am]

BILLING CODE 8010-01-P